ENVIRONMENTAL PROTECTION AGENCY

40 CFR Part 86

[FRL-7046-8]

Notice of Availability: Response Document Denying the Ethyl Corporation Petitions To Reconsider Three EPA Regulations: CAP 2000, Heavy Duty Gasoline, and OBD/IM

AGENCY: Environmental Protection Agency (EPA).

ACTION: Availability of EPA decision denying the Ethyl Corporation petitions to reconsider CAP 2000 regulation, heavy-duty gasoline regulation, and OBD/IM regulation.

SUMMARY: The Ethyl Corporation has submitted three petitions to the EPA Administrator to reconsider three separate Agency rulemakings. The first petition is regarding the compliance procedures for new motor vehicles known as “CAP 2000”. 64 FR 23,906. The second petition pertains to emission standards and compliance procedures for new heavy-duty gasoline engines. 65 FR 59896. The third petition pertains to the use of on-board diagnostics for vehicle inspection and maintenance programs. 66 FR 18156.

The Petitioner's issues with the heavy-duty rule are identical to those of the CAP 2000 rule, and EPA agreed that its response would cover both regulations. Although the issue for the OBD/IM rule is different, EPA's response is included in accordance with a commitment to do so made in that rulemaking.

This Notice serves to announce the availability of EPA's decision to deny Ethyl's petition to reconsider all three petitions.

ADDRESSES: Copies of EPA's decision document are available from the EPA Air Docket under the following three Docket numbers: A-96-50 (CAP 2000), A-2000-16 (OBD/IM) and A-98-32 (Heavy-Duty Highway). The address for the EPA Air Docket is: U.S. Environmental Protection Agency (EPA), Air Docket (6102), Room M-1500, 401 M Street, S.W., Washington, D.C. 20460. EPA's Air Docket makes materials related to the three regulations involved in the Ethyl Corporation petitions available for review at the above address (on the ground floor in Waterside Mall) from 8:00 a.m. to 5:30 p.m., Monday through Friday, except on government holidays. You can reach the Air Docket by telephone at (202) 260-7548 and by facsimile at (202) 260-4400. We may charge a reasonable fee for copying docket materials, as provided in 40 CFR part 2. You can also view or download a copy of the decision document via EPA's web site at the following address: http://www.epa.gov/otaq/ld-hwy.htm#regs.

FOR FURTHER INFORMATION CONTACT: Linda Hormes, Office of Mobile Sources, Vehicle Programs and Compliance Division, 2000 Traverwood, Ann Arbor, MI 48105. Phone: (734) 214-4502. Email: lhormes@epa.gov.

Dated: August 23, 2001.
Christine Todd Whitman,
Administrator.

[FR Doc. 01-21932 Filed 8-29-01; 8:45 am]

BILLING CODE 6560-50-P